DEPARTMENT OF TRANSPORTATION

Federal Aviation Administration

14 CFR Part 39

[Docket No. FAA-2010-0426; Directorate Identifier 2009-SW-34-AD; Amendment 39-16433; AD 2010-19-05]

RIN 2120-AA64

Airworthiness Directives Eurocopter France (ECF) Model SA-365N1, AS-365N2, AS 365 N3, EC 155B, and EC155B1 Helicopters

AGENCY: Federal Aviation Administration (FAA), Department of Transportation (DOT).

ACTION: Final rule.

SUMMARY: We are adopting a new airworthiness directive (AD) for the specified ECF model helicopters. This AD results from a mandatory continuing airworthiness information (MCAI) AD issued by the aviation authority of the European Aviation Safety Agency (EASA). The MCAI AD reports the separation and loss of a stainless steel ring (75 millimeter (mm) in diameter) from a tail rotor blade (blade) sleeve resulting in severe, high-frequency vibrations, which can lead to damage to the fenestron blades, loss of yaw control, and subsequent loss of control of the helicopter.

DATES: This AD becomes effective on October 27, 2010.

The incorporation by reference of certain publications is approved by the Director of the Federal Register as of October 27, 2010.

ADDRESSES: You may examine the AD docket on the Internet at http://regulations.gov or in person at the Docket Operations office, U.S. Department of Transportation, M-30, West Building Ground Floor, Room W12-140, 1200 New Jersey Avenue, SE., Washington, DC between 9 a.m. and 5 p.m. Monday through Friday, except Federal holidays.

You may get the service information identified in this AD from American Eurocopter Corporation, 2701 Forum Drive, Grand Prairie, TX 75053-4005, telephone (800) 232-0323, fax (972) 641-3710, or at http://www.eurocopter.com.

Examining the AD Docket: The AD docket contains the Notice of proposed rulemaking (NPRM), the economic evaluation, any comments received, and other information. The street address and operating hours for the Docket Operations office (telephone (800) 647-5527) are in the ADDRESSES section of this AD. Comments will be available in the AD docket shortly after they are received.

FOR FURTHER INFORMATION CONTACT: DOT/FAA Southwest Region, Gary Roach, ASW-111, Aviation Safety Engineer, Rotorcraft Directorate, Regulations and Guidance Group, 2601 Meacham Blvd., Fort Worth, Texas 76137; telephone (817) 222-5130; fax (817) 222-5961.

SUPPLEMENTARY INFORMATION:

Discussion

We issued an NPRM to amend 14 CFR part 39 to include an AD that would apply to the specified ECF model helicopters on April 14, 2010. That NPRM was published in the Federal Register on April 22, 2010 (75 FR 20931). That NPRM proposed:

• For the ECF Model SA-365N1, AS-365N2, and AS 365 N3 helicopters, within 50 hours time-in-service (TIS), and thereafter at intervals not to exceed 10 hours TIS, inspecting each blade of the fenestron tail rotor to determine whether there has been any outward slippage (toward the shroud) of the stainless steel ring that is around the sleeve of each blade where the blade enters the fenestron hub.

• For the ECF Model EC 155B or B1 helicopters, within 50 hours TIS, and thereafter at intervals not to exceed 15 hours TIS, inspecting each blade for slippage of the fenestron tail rotor to determine whether there has been any outward slippage (toward the shroud) of the stainless steel ring that is around the sleeve of each blade where the blade enters the fenestron hub.

• If the stainless steel ring has slipped outward, before further flight, replacing the blade with an airworthy blade.

Comments

By publishing the NPRM, we gave the public an opportunity to participate in developing this AD. We received no comment on the NPRM or on our determination of the cost to the public; however, since the issuance of the NPRM, the average labor rate has increased from $80 per work hour to $85 per work hour, resulting in an increase of $41 in costs of compliance. We have determined that this change does not significantly increase the economic burden on any AD operator nor does it increase the scope of the AD. Therefore, based on our review and evaluation of the available data, we have determined that air safety and the public interest require adopting the AD as proposed.

Related Service Information

Eurocopter has issued Alert Service Bulletin No. 05A011 for the Model EC 155B and B1 helicopters and No. 05.00.49 for the Model SA-365N1, AS-365N2, and AS 365 N3 helicopters. Both service bulletins are dated March 1, 2006. The service information specifies checking the blade sleeve for slippage of the stainless steel ring (75 mm in diameter) and replacing the blade if the stainless steel ring has slipped. The actions described in the MCAI AD are intended to correct the same unsafe condition as that identified in the service information.

Differences Between This AD and the MCAI AD

We refer to flying hours as hours time-in-service. Also, we use “inspect” rather than “check” to describe the actions required by this AD. We use a different initial compliance time.

Costs of Compliance

We estimate that this AD will affect about 33 helicopters of U.S. registry. We also estimate that it will take about 15 minutes per helicopter to inspect for slippage of the stainless steel ring of the blade sleeve. The average labor rate is $85 per work-hour. Based on these figures, we estimate the cost of the AD on U.S. operators is $701, assuming none of the blades are replaced.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-19-05 Eurocopter France: Amendment 39-16433 ; Docket No. FAA-2010-0426; Directorate Identifier 2009-SW-34-AD.

Effective Date

(a) This airworthiness directive (AD) becomes effective on October 27, 2010.

Other Affected ADs

(b) None.

Applicability

(c) This AD applies to Model SA-365N1, AS-365N2, AS 365 N3, EC 155B, and EC155B1 helicopters, with a fenestron tail rotor blade (blade), part number 365A12-0060-01 or 365A12-0070-00, installed, certificated in any category.

Reason

(d) The mandatory continuing airworthiness information (MCAI) AD reports the separation and loss of a stainless steel ring (75 mm in diameter) from a blade sleeve resulting in severe, high-frequency vibrations, which can lead to damage to the fenestron blades, loss of yaw control, and subsequent loss of control of the helicopter.

Actions and Compliance

(e) Required as indicated:

(1) For the Model SA-365N1, AS-365N2, and AS 365 N3 helicopters, within 50 hours time-in-service (TIS), unless done previously, and thereafter at intervals not to exceed 10 hours TIS, inspect each blade of the fenestron tail rotor to determine whether there has been any outward slippage (toward the shroud) of the stainless steel ring that is around the sleeve of each blade where the blade enters the fenestron hub as depicted in Appendix 1 and by following the Accomplishment Instructions, paragraph 2.B.1., of Eurocopter Alert Service Bulletin No. 05.00.49, dated March 1, 2006.

(2) For the Model EC 155B or B1 helicopters, within 50 hours time-in-service (TIS), unless done previously, and thereafter at intervals not to exceed 15 hours TIS, inspect each blade of the fenestron tail rotor to determine whether there has been any outward slippage (toward the shroud) of the stainless steel ring that is around the sleeve of each blade where the blade enters the fenestron hub as depicted in Appendix 1 and by following paragraph 2.B.1., of Eurocopter Alert Service Bulletin No. 05A011, dated March 1, 2006.

(3) If the stainless steel ring has slipped outward, before further flight, replace the blade with an airworthy blade.

Differences Between This AD and the MCAI AD

(f) We refer to flying hours as hours time-in-service. Also, we use “inspect” rather than “check” to describe the action to be taken in the AD. We use a different initial compliance time.

Other Information

(g) Alternative Methods of Compliance (AMOCs): The Manager, Rotorcraft Directorate, Safety Management Group, Attn: DOT/FAA Southwest Region, Gary Roach, ASW-111, Aviation Safety Engineer, Regulations and Guidance Group, 2601 Meacham Blvd., Fort Worth, Texas 76137, telephone (817) 222-5130, fax (817) 222-5961, has the authority to approve AMOCs for this AD, if requested using the procedures found in 14 CFR 39.19.

Related Information

(h) European Aviation Safety Agency MCAI Airworthiness Directive No. 2006-0099, dated April 24, 2006, contains related information.

Joint Aircraft System/Component (JASC) Code

(i) The JASC Code is 6400: Tail Rotor.

Material Incorporated by Reference

(j) You must use the specified portions of Eurocopter Alert Service Bulletins No. 05A011 and No. 05.00.49, both dated March 1, 2006, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (800) 232-0323, fax (972) 641-3710, or at http://www.eurocopter.com.

(3) You may review copies at the FAA, Office of the Regional Counsel, Southwest Region, 2601 Meacham Blvd., Fort Worth, Texas 76137; or at the National Archives and Records Administration (NARA). For information on the availability of this material at NARA, call (202) 741-6030, or go to: http://www.archives.gov/federal-register/cfr/ibr-locations.html.

Issued in Fort Worth, Texas, on September 3, 2010.
Kim Smith,
Manager, Rotorcraft Directorate, Aircraft Certification Service.

[FR Doc. 2010-23098 Filed 9-21-10; 8:45 am]

BILLING CODE 4910-13-P